DEPARTMENT OF ENERGY

Federal Energy Regulatory Commission

Combined Notice of Filings #1

Take notice that the Commission received the following electric rate filings:

Docket Numbers: ER19-938-000.

Applicants: Midcontinent Independent System Operator, Inc.

Description: § 205(d) Rate Filing: 2019-01-31_SA 3228 EDF Renewables—ITC Midwest GIA (J495) to be effective 1/16/2019.

Filed Date: 1/31/19.

Accession Number: 20190131-5197.

Comments Due: 5 p.m. ET 2/21/19.

Docket Numbers: ER19-939-000.

Applicants: Central Maine Power Company.

Description: § 205(d) Rate Filing: Bilateral, Cost-Based TSAs Incorporating First Amendments (HQUS Eversource) to be effective 4/2/2019.

Filed Date: 1/31/19.

Accession Number: 20190131-5199.

Comments Due: 5 p.m. ET 2/21/19.

Docket Numbers: ER19-940-000.

Applicants: Central Maine Power Company.

Description: § 205(d) Rate Filing: Bilateral, Cost-Based TSAs Incorporating First Amendments (HQUS National Grid) to be effective 4/2/2019.

Filed Date: 1/31/19.

Accession Number: 20190131-5200.

Comments Due: 5 p.m. ET 2/21/19.

Docket Numbers: ER19-941-000.

Applicants: Central Maine Power Company.

Description: § 205(d) Rate Filing: Bilateral, Cost-Based TSAs Incorporating First Amendments (HQUS Unitil) to be effective 4/2/2019.

Filed Date: 1/31/19.

Accession Number: 20190131-5201.

Comments Due: 5 p.m. ET 2/21/19.

Docket Numbers: ER19-942-000.

Applicants: Central Maine Power Company.

Description: § 205(d) Rate Filing: Bilateral, Cost-Based TSAs Incorporating First Amendments (HQUS Additional) to be effective 4/2/2019.

Filed Date: 1/31/19.

Accession Number: 20190131-5202.

Comments Due: 5 p.m. ET 2/21/19.

Docket Numbers: ER19-943-000.

Applicants: Midcontinent Independent System Operator, Inc.

Description: § 205(d) Rate Filing: 2019-01-31_SA 2786 ITC Midwest-Interstate Power & Light GIA (J233 J514) to be effective 1/23/2019.

Filed Date: 1/31/19.

Accession Number: 20190131-5206.

Comments Due: 5 p.m. ET 2/21/19.

Docket Numbers: ER19-944-000.

Applicants: Pacific Gas and Electric Company.

Description: § 205(d) Rate Filing: Q4 2018 Quarterly Filing of City and County of San Francisco's WDT SA (SA 275) to be effective 12/31/2018.

Filed Date: 1/31/19.

Accession Number: 20190131-5225.

Comments Due: 5 p.m. ET 2/21/19.

Docket Numbers: ER19-945-000.

Applicants: PJM Interconnection, L.L.C.

Description: § 205(d) Rate Filing: Revisions to Att Q. re FTR Mark to Auction Credit Revisions to be effective 4/4/2019.

Filed Date: 1/31/19.

Accession Number: 20190131-5236.

Comments Due: 5 p.m. ET 2/21/19.

Docket Numbers: ER19-946-000.

Applicants: Southwest Power Pool, Inc.

Description: § 205(d) Rate Filing: 3127R1 Montana-Dakota Utilities Co. NITSA and NOA to be effective4/1/2019.

Filed Date: 1/31/19.

Accession Number: 20190131-5239.

Comments Due: 5 p.m. ET 2/21/19.

Docket Numbers: ER19-947-000.

Applicants: Alabama Power Company.

Description: § 205(d) Rate Filing: Exelon Generation GISA Filing to be effective 1/1/2019.

Filed Date: 1/31/19.

Accession Number: 20190131-5244.

Comments Due: 5 p.m. ET 2/21/19.

Docket Numbers: ER19-948-000.

Applicants: Alabama Power Company.

Description: § 205(d) Rate Filing: Shell Energy North America GISA Filing to be effective 1/1/2019.

Filed Date: 1/31/19.

Accession Number: 20190131-5245.

Comments Due: 5 p.m. ET 2/21/19.

Docket Numbers: ER19-949-000.

Applicants: Westar Energy, Inc.

Description: § 205(d) Rate Filing: Revisions, Full Requirements Electric Service Agreements to be effective4/1/2019.

Filed Date: 1/31/19.

Accession Number: 20190131-5246.

Comments Due: 5 p.m. ET 2/21/19.

Docket Numbers: ER19-950-000.

Applicants: Alabama Power Company.

Description: § 205(d) Rate Filing: SCPSA Interchange Contract Amendment Filing (To Remove Gulf) to be effective 1/1/2019.

Filed Date: 1/31/19.

Accession Number: 20190131-5248.

Comments Due: 5 p.m. ET 2/21/19.

Docket Numbers: ER19-951-000.

Applicants: California Independent System Operator Corporation.

Description: § 205(d) Rate Filing: 2019-01-31 Commitment Cost Enhancements & Reliability Services Clarification to be effective 4/1/2019.

Filed Date: 1/31/19.

Accession Number: 20190131-5249.

Comments Due: 5 p.m. ET 2/21/19.

Docket Numbers: ER19-952-000.

Applicants: Alabama Power Company.

Description: § 205(d) Rate Filing: Raven Solar LGIA Amendments Filing (to Remove Gulf) to be effective1/1/2019.

Filed Date: 1/31/19.

Accession Number: 20190131-5279.

Comments Due: 5 p.m. ET 2/21/19.

Docket Numbers: ER19-953-000.

Applicants: Southern California Edison Company.

Description: § 205(d) Rate Filing: Amended LGIA Solar Star California XIX, LLC True-Up SA No. 110 to be effective 4/3/2019.

Filed Date: 2/1/19.

Accession Number: 20190201-5071.

Comments Due: 5 p.m. ET 2/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Issued: February 1, 2019.
Kimberly D. Bose,
Secretary.

[FR Doc. 2019-01652 Filed 2-7-19; 8:45 am]

BILLING CODE 6717-01-P